SUSQUEHANNA RIVER BASIN COMMISSION

Notice of Commission Determination

AGENCY: Susquehanna River Basin Commission.

ACTION: Notice of commission determination.

SUMMARY: Pursuant to authority set forth in the Susquehanna River Basin Compact, Pub. L. 91-575, 84 Stat. 1509 et seq., Article 3, Section 3.10(3); and at 18 CFR 806.4(a)(8) and 806.5, the Executive Director has issued a determination regarding the requirement for review and approval of natural gas well development projects targeting the Antes, Burket, Geneseo, Mandata, Middlesex, Needmore, or Rhinestreet shale formations.

DATES: April 21, 2011.

ADDRESSES: Susquehanna River Basin Commission, 1721 N. Front Street, Harrisburg, PA 17102-2391.

FOR FURTHER INFORMATION CONTACT: Richard A. Cairo, General Counsel, telephone: (717) 238-0423, ext. 306; fax: (717) 238-2436; e-mail: rcairo@srbc.net; or Thomas W. Beauduy, Deputy Executive Director, telephone: (717) 238-0423, ext. 305; fax: (717) 238-2436; e-mail: tbeauduy@srbc.net. Regular mail inquiries may be sent to the above address.

SUPPLEMENTARY INFORMATION: On April 21, 2011, Executive Director Paul O. Swartz issued the following determination: Pursuant to my authority under 18 CFR §§ 806.4(a)(8) and 806.5, I hereby determine that natural gas well development projects involving a withdrawal, diversion or consumptive use of water and targeting the Antes, Burket, Geneseo, Mandata, Middlesex, Needmore, or Rhinestreet shale formations shall be subject to the review and approval of the Susquehanna River Basin Commission (the “Commission”). These projects shall be in addition to and shall not affect any other gas well development projects targeting the Marcellus or Utica shale formations that the Commission has already determined to be subject to review and approval by prior determination or rulemaking action.

Any project sponsor proposing to initiate a gas well development project(s) targeting any of the shale formations subject to this determination that involves a withdrawal, diversion or consumptive use of water, regardless of quantity, is directed to submit an application requesting review and approval in accordance with 18 CFR part 806. All existing “Approvals by Rule” (ABRs) issued by the Commission under 18 CFR 806.22(f), are hereby modified to subject any natural gas well development activity targeting such shale formations to the terms and conditions thereof.

This determination may be appealed to the Commission within thirty (30) days of receipt of this notice in the manner described by 18 CFR 808.2.

Dated: April 21, 2011.
Paul O. Swartz,
Executive Director.

[FR Doc. 2011-10416 Filed 4-28-11; 8:45 am]

BILLING CODE 7040-01-P